FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011548-005.

Title: Hanjin/Sinolines Cross Space Charter & Sailing Agreement.

Parties: Hanjin Shipping Co., Ltd. Sinotrans Container Lines Co. Ltd.

Synopsis: The proposed modification substitutes Sinotrans Container Lines Co., Ltd., trading as Sinolines, for China National Foreign Trade Transportation Corporation as a party to the agreement.

Agreement No.: 011746-001.

Title: COSCON/KL/YMUK Asia/U.S. Pacific Coast Slot Allocation Agreement.

Parties: COSCO Container Lines Company, Ltd. Kawasaki Kisen Kaisha, Ltd. Yangming (UK) Ltd.

Synopsis: The proposed modification adds a new vessel string in the agreement trade on which the parties may share space. The parties request expedited review.

By Order of the Federal Maritime Commission.
Dated: December 7, 2001.
Theodore A. Zook,
Assistant Secretary.

[FR Doc. 01-30768 Filed 12-12-01; 8:45 am]

BILLING CODE 6730-01-P